DEPARTMENT OF THE INTERIOR

Bureau of Land Management

[WY-957-07-1910-BJ-5GKZ]

Notice of Filing of Plats of Survey, Nebraska

September 28, 2006.

AGENCY: Bureau of Land Management, Interior.

SUMMARY: The Bureau of Land Management (BLM) is scheduled to file the plat of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of a portion of the Eighth Standard Parallel North, through Range 5 West, portions of the south boundary, subdivisional lines, and subdivision of section lines, the survey of the subdivision of certain sections, and the retracement of a portion of the U.S. Army Corps of Engineers boundary line, Township 32 North, Range 5 West, of the Sixth Principal Meridian, Nebraska, was accepted September 28, 2006.

Copies of the preceding described plat and field notes are available to the public at a cost of $1.10 per page.

Dated: September 28, 2006.
John P. Lee,
Chief Cadastral Surveyor, Division of Support Services.

[FR Doc. E6-16481 Filed 10-4-06; 8:45 am]

BILLING CODE 4467-22-P